DEPARTMENT OF COMMERCE

Census Bureau

Agency Information Collection Activities; Submission to the Office of Management and Budget (OMB) for Review and Approval; Comment Request; Management and Organizational Practices Survey (MOPS) 2021

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed reinstatement, with change, of the Management and Organizational Practices Survey, prior to the submission of the information collection request (ICR) to OMB for approval.

DATES: To ensure consideration, comments regarding this proposed information collection must be received on or before September 27, 2021.

ADDRESSES: Interested persons are invited to submit written comments by email to Thomas.J.Smith@census.gov. Please reference Management and Organizational Practices Survey (MOPS) 2021 in the subject line of your comments. You may also submit comments, identified by Docket Number USBC-2021-0018, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Marlo Thornton, Assistant Division Chief, Economy-Wide Statistics Division, at marlo.n.thornton@census.gov or 301-763-7170.

SUPPLEMENTARY INFORMATION:

I. Abstract

The Census Bureau plans to conduct the Management and Organizational Practices Survey (MOPS) for survey year 2021; the survey was previously conducted for survey years 2010 and 2015. The survey will be conducted as a joint project by the Census Bureau, the University of Chicago Booth School of Business, Stanford School of Humanities and Sciences, and the Stanford Institute for Human-Centered Artificial Intelligence. The MOPS will utilize the Annual Survey of Manufactures (ASM) mail-out sample and will collect information on management and organizational practices at the establishment level. The Census Bureau has conducted the ASM since 1949 to provide key measures of manufacturing activity during intercensal periods. In years that we conduct the Economic Census, years ending in “2” and “7”, we do not mail the ASM but collect the data as part of the Economic Census covering the Manufacturing Sector. The ASM is an integral part of the Federal Government's statistical program, furnishing up-to date estimates of employment and payroll, hours and wages of production workers, value added by manufacture, cost of materials, value of shipments, inventories, and expenditures for both plant and equipment and structures. The data obtained from the MOPS will allow the Census Bureau to estimate a firm's stock of management and organizational assets, specifically the use of decentralized decision rights and establishment performance data such as production targets in decision-making. These data will provide information on investments in management and organizational practices, which will lead to a better understanding of the benefits from these investments when measured in terms of firm productivity or firm market value. This survey on management and organizational practices will provide information on the dimensions of organizational capital for this sector not currently available elsewhere. This clearance request will be for the survey year 2021. The Census Bureau plans to make the following changes to the 2015 MOPS content for the 2021 survey:

• Add a new purchased services module on the establishment's use of its own employees, contractors, temporary staff, or leased workers for select business expenses.

• Update the data and decision-making module by removing five of the six questions, maintaining a question asking who decides what data to collect for continuity, and adding nine questions focused on the frontier uses of data to inform artificial intelligence.

• Add three questions to the background characteristics module on the establishment's use of an external Certified Public Accountant.

• Simplify questions on the location of decision-making in multi-location firms in the organization module by combining them into a single table and removing write-in responses.

• Remove four forecasting questions in the uncertainty module.

• Remove two questions related to the establishment's background characteristics.

• Remove all questions about a five-year recall period.

II. Method of Collection

The 2021 MOPS will be mailed separately from the 2021 ASM and will utilize an entirely electronic collection. Unlike the ASM that mails to the headquarters of companies with multiple locations, the MOPS will be mailed directly to the individual establishments. Initial contact with respondents will be a mailed letter directing them to report online. Respondents will report electronically through the Census Bureau's Centurion online reporting system. The sample for the 2021 MOPS will consist of the approximately 50,000 establishments in the 2021 ASM mail-out sample. The mail-out sample for the ASM is redesigned at 5-year intervals beginning the second survey year after the Economic Census. For the 2019 ASM, a new probability sample was selected from a frame of approximately 100,000 manufacturing establishments in the 2017 Economic Census that had paid employees, were located in the United States, and were associated with multi-location companies or were large single-establishment companies. On an annual basis, the mail-out sample is supplemented with large, newly active single-establishment companies identified from a list provided by the Internal Revenue Service and new manufacturing establishments of multi-location companies identified from the Census Bureau's Company Organization Survey.

III. Data

OMB Control Number: 0607-0963.

Electronic Path ID: MP-10002.

Type of Review: Regular submission, Request for a Reinstatement, with Change, of a Previously Approved Collection.

Affected Public: Business or other for-profit organizations.

Estimated Number of Respondents: 50,000.

Estimated Time per Response: 45 minutes.

Estimated Total Annual Burden Hours: 37,500.

Estimated Total Annual Cost to Public: $0. (This is not the cost of respondents' time, but the indirect costs respondents may incur for such things as purchases of specialized software or hardware needed to report, or expenditures for accounting or records maintenance services required specifically by the collection.)

Respondent's Obligation: Mandatory.

Legal Authority: Title 13, United States Code, Sections 131 and 182; Sections 224 and 225 make reporting for this survey mandatory.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-16151 Filed 7-28-21; 8:45 am]

BILLING CODE 3510-07-P